DEPARTMENT OF ENERGY

Bonneville Power Administration;

Big Eddy-Knight Transmission Project

AGENCY: Bonneville Power Administration (BPA), Department of Energy (DOE).

ACTION: Notice of intent to prepare an Environmental Impact Statement (EIS) and notice of floodplain and wetlands involvement.

SUMMARY: BPA intends to prepare an EIS in accordance with the National Environmental Policy Act (NEPA) on the construction, operation, and maintenance of a proposed 500-kilovolt (kV) transmission line and substation. The project would be located in Wasco County, Oregon and Klickitat County, Washington. The new BPA transmission line would extend generally northeast from BPA's existing 500-kV Big Eddy Substation in The Dalles, Oregon, to a new BPA 500-kV substation proposed to be connected to BPA's existing Wautoma-Ostrander 500-kV transmission line approximately 4 miles northwest of Goldendale, Washington. The proposed BPA substation would be called Knight Substation. BPA is considering three routing alternatives for the proposed transmission line; portions of all three routes parallel existing BPA lines in the area. The lengths of the routing alternatives range from about 26 to 28 miles. The proposed Big Eddy-Knight transmission line is needed to increase transmission capacity to respond to requests for transmission service in this area.

With this Notice of Intent, BPA is initiating the public scoping process for the EIS. BPA is requesting comments about potential environmental impacts that it should consider as it prepares the EIS for the proposed project, as well as comments on the proposed routes for the transmission line, and suggestions about other route options that may meet the technical requirements of the transmission system.

In accordance with DOE regulations for compliance with floodplain and wetlands environmental review requirements, BPA will prepare a floodplain and wetlands assessment to avoid or minimize potential harm to or within any affected floodplains and wetlands. The assessment will be included in the EIS.

DATES: Written scoping comments are due to the address below no later than July 21, 2009. Comments may also be made at the EIS scoping meetings to be held on June 30, 2009 and July 1, 2009 at the addresses below.

ADDRESSES: Send letters with comments and suggestions on the proposed scope of the Draft EIS, and requests to be placed on the project mailing list, to Bonneville Power Administration, Public Affairs Office—DKE-7, P.O. Box 14428, Portland, OR, 97293-4428, or by fax to (503) 230-3285. You also may call BPA's toll free comment line at (800) 622-4519 and leave a message (please include the name of this project), or submit comments online at http://www.bpa.gov/comment. BPA will post all comment letters in their entirety on BPA's Web site at http://www.bpa.gov/comment.

On Tuesday, June 30, 2009, an open-house style scoping meeting will be held from 4 p.m. to 7 p.m. at the Shilo Inn Suites Hotel in The Dalles, Oregon. On Wednesday, July 1, 2009, a scoping meeting will be held from 4 p.m. to 7 p.m. at the Goldendale High School in Goldendale, Washington. At these informal meetings, we will provide maps and other information about the project and have members of the project team available to answer questions and accept oral and written comments. You may stop by anytime during the open house.

FOR FURTHER INFORMATION CONTACT: Stacy Mason, Environmental Coordinator, Bonneville Power Administration—KEC-4, P.O. Box 3621, Portland, Oregon 97208-3621; toll-free telephone 1-800-282-3713; direct telephone 503-230-5455; or e-mail slmason@bpa.gov. You may also contact Steve Prickett, Project Manager, Bonneville Power Administration—TNP-3, P.O. Box 3621, Portland, Oregon, 97208-3621; toll-free telephone 1-800-282-3713; direct telephone 360-619-6379; or e-mail slprickett@bpa.gov. Additional information can be found at BPA's Web site: http://www.efw.bpa.gov/environmental_services/nepadocs.aspx, click on “Project Reviews—Active,” then use the drop-down box and click on Big Eddy-Knight Transmission Project.

SUPPLEMENTARY INFORMATION: In 2008, BPA conducted a Network Open Season (NOS) process to help manage its list of requests for long-term transmission service. During the NOS process, utilities and power generators (including wind generators and power marketers) requested the use of BPA's transmission system to transmit their power. To determine if BPA could offer the service requested, BPA studied the transmission system and identified where existing capacity was available and where the system needed upgrades. The studies found that there was not enough available transmission capacity to accommodate all requests for long-term service from the east side of the Cascade Mountains along the Oregon/Washington border, to load centers west of the Cascades, and to major transmission lines serving California. Wind generation facilities built and proposed in the region have greatly increased the amount of power being produced on the east side of the Cascade Mountains. Further studies revealed that building a new 500-kV line from BPA's existing Big Eddy Substation in Oregon to a point on BPA's existing Wautoma-Ostrander 500-kV transmission line in Washington would allow BPA to accommodate the requests for transmission service in this area.

BPA must respond to these requests for transmission service under its Open Access Transmission Tariff. This tariff, which is generally consistent with the Federal Energy Regulatory Commission's pro forma open access tariff, has procedures that provide access to BPA's transmission system for all eligible customers, consistent with all BPA requirements (including the availability or development of sufficient transmission capacity) and subject to an environmental review under NEPA. The proposed Big Eddy-Knight Transmission Line Project would respond to these requests for transmission service. BPA, therefore, will prepare an EIS under NEPA to assist the agency as it decides whether to build the proposed project, and if a decision is made to build a line, which alternative transmission line route should be constructed.

BPA will be the lead agency for preparation of the EIS. In furtherance of existing cooperative agreements between BPA and the States of Washington and Oregon, the Washington Energy Facility Site Evaluation Council (Washington EFSEC) and the Oregon Energy Facility Siting Council (Oregon EFSC) also will participate in preparation of the EIS. Among other things, these State agencies will assist BPA in evaluating alternative transmission line routes and identifying State interests that should be addressed in the EIS. In addition, cooperating agencies for the EIS may be identified as the proposed project proceeds through the NEPA process.

Alternatives Proposed for Consideration. BPA is considering three routing alternatives for evaluation in the EIS. The routing alternatives use a combination of existing BPA transmission right-of-way and new right-of-way and are about 26-28 miles long. BPA proposes to use lattice steel towers for construction of the transmission line.

All routing alternatives would originate at BPA's Big Eddy Substation, near The Dalles, Oregon, and would terminate at a new BPA 500-kV Knight Substation located under and connected to BPA's existing BPA Wautoma-Ostrander 500-kV transmission line approximately 4 miles northwest of Goldendale, Washington. The following describes the general location of the three routing alternatives:

• West Alternative: This route would extend northwest from Big Eddy Substation following existing vacant BPA right-of-way to and across the Columbia River. The line would then head east, and then north to parallel an existing BPA 115-kV H-frame wood-pole transmission line. The proposed line would angle northeast in new right-of-way adjacent to the wood pole line for about 12 miles. The proposed line would continue northeast in new right-of-way for about 4 miles before nearing two existing lattice steel lines (230 kV and 500 kV). The proposed line would parallel these existing lines eastward for about 3 miles to the proposed Knight Substation site. This routing alternative is about 26 miles long.

• Middle Alternative: From Big Eddy Substation, this route would extend east and slightly north in existing right-of-way next to an existing BPA 230-kV lattice-steel transmission line for about 7 miles before crossing the Columbia River. The line would cross the river just west of the existing line and follow it for about 1.5 miles before heading north in new right-of-way. The line would then head to the proposed Knight Substation site, generally running north for about 15 miles with one jog east along an existing BPA 115-kV wood-pole line. This routing alternative is about 26 miles long.

• East Alternative: This route would follow the same route as the Middle Routing Alternative, but instead of heading north on the Washington side of the river, the East Routing Alternative would continue east next to two existing lattice-steel lines (230 kV and 345 kV) for an additional 4 miles before turning north. The line would then generally run north for 15 miles to the proposed Knight Substation site. This routing alternative is about 28 miles long.

BPA is also considering the No Action Alternative, that is, not building the transmission line and substation. Other alternatives may be identified through the scoping process.

Public Participation and Identification of Environmental Issues. The potential environmental issues identified for most transmission line projects include land use, socioeconomics, cultural resources, visual resources, electric and magnetic field effects, sensitive plants and animals, soil erosion, wetlands, floodplains, and fish and water resources. The transmission line alternatives being considered also cross portions of the Columbia River Gorge National Scenic Area. BPA has established a 45-day scoping period during which tribes, affected landowners, concerned citizens, special interest groups, local and federal governments, and any other interested parties are invited to comment on the scope of the proposed EIS, including potential routing alternatives to be considered and environmental impacts to be evaluated. Scoping will help BPA ensure that a full range of issues related to this proposal is addressed in the EIS, and also will identify significant or potentially significant impacts that may result from the proposed project. When completed, the Draft EIS will be circulated for review and comment, and BPA will hold public meetings to answer questions and receive comments. BPA will consider and respond to comments received on the Draft EIS in the Final EIS. The Final EIS is expected to be published in winter 2010-11. BPA's decision will be documented in a Record of Decision that will follow the Final EIS.

Issued in Portland, Oregon, on May 27, 2009.
Stephen J. Wright,
Administrator and Chief Executive Officer.

[FR Doc. E9-12915 Filed 6-2-09; 8:45 am]

BILLING CODE 6450-01-P